DEPARTMENT OF THE INTERIOR

National Park Service

National Preservation Technology and Training Board: Meeting

AGENCY: National Park Service, Interior.

ACTION: Notice.

Notice is hereby given in accordance with the Federal Advisory Committee Act, 5 U.S.C. Appendix (1988), that the National Preservation Technology and Training Board will meet on March 27 and 28, 2001, in Murfreesboro, TN.

The board was established by Congress to provide leadership, policy advice, and professional oversight to the National Center for Preservation Technology and Training, as required under the National Historic Preservation Act of 1966, as amended (16 U.S.C. 470).

The board will meet in the Bradley Academy Historical and Cultural Center, 415 South Academy Street, Murfreesboro, TN 37130, on Tuesday, March 27, 2001. The meeting will start at 8:30 a.m. and end at approximately noon. Matters to be discussed include officer, committee, university, National Park Service, and center reports, and the status of the grants program.

On Wednesday, March 28, 2001, the meeting will start at 8:30 a.m. and end at or before noon. Matters to be discussed include a review of past accomplishments of the center and a look towards the future of the center and its partners in the preservation community.

This meeting will be open to the public. However, facilities and space for accommodating members of the public are limited and persons will be accommodated on a first-come, first-served basis. Any member of the public may file a written statement concerning the matters to be discussed with Dr. Neville Agnew, Chair, National Preservation Technology and Training Board, Group Director, Information and Communication, The Getty Conservation Institute, 1200 Getty Center Drive, Suite 700, Los Angeles, CA 90049-1684.

Persons wishing more information concerning this meeting, or who wish to submit written statements, may do so by contacting Mr. E. Blaine Cliver, Chief, HABS/HAER, National Park Service, 1849 C Street NW-300 NC, Washington, DC 20240, telephone (202) 343-9606. Draft summary minutes of the meeting will be available for public inspection approximately eight weeks after the meeting, at the office of the Manager, National Center for Cultural Resources, 800 North Capitol Street, Suite 350, Washington, DC 20002.

Dated: February 6, 2001.
John Robbins,
Assistant Director, Cultural Resources Stewardship and Partnerships.

for

E. Blaine Cliver,

Chief, HABS/HAER,

Designated Federal Official.

[FR Doc. 01-4300 Filed 2-20-01; 8:45 am]

BILLING CODE 4310-70-F